DEPARTMENT OF COMMERCE

International Trade Administration

[A-549-812]

Furfuryl Alcohol From Thailand: Notice of Rescission of Antidumping Duty Administrative Review

AGENCY: Import Administration, International Trade Administration, Department of Commerce.

ACTION: Notice of rescission of antidumping duty administrative review.

EFFECTIVE DATE: November 6, 2002.

SUMMARY: On August 27, 2002, the Department of Commerce (the Department) published in the Federal Register (67 FR 55000) a notice announcing the initiation of an administrative review of the antidumping duty order on furfuryl alcohol from Thailand, covering the period July 1, 2001, through June 30, 2002, and one manufacturer/exporter of the subject merchandise, Indorama Chemicals (Thailand) Ltd. (Indorama). We are now rescinding this review as a result of Indorama's withdrawal of its request for an administrative review.

FOR FURTHER INFORMATION CONTACT: Charles Riggle at (202) 482-0650 or Tisha Loeper-Viti at (202) 482-7425, AD/CVD Enforcement, Office 5, Group II, Import Administration, International Trade Administration, U.S. Department of Commerce, 14th Street and Constitution Avenue, NW, Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations refer to the regulations codified at 19 CFR part 351 (April 2002).

Background

On July 31, 2002, Indorama, in accordance with 19 CFR 351.213(b), requested an administrative review of the antidumping duty order on furfuryl alcohol from Thailand. On August 27, 2002, in accordance with 19 CFR 351.221(c)(1)(i), we initiated an administrative review of this order for the period July 1, 2001, through June 30, 2002 (67 FR 55000). On October 18, 2002, Indorama withdrew its request for this review.

Rescission of Review

The Department's regulations at 19 CFR 351.213(d)(1) provide that the Department will rescind an administrative review if the party that requested the review withdraws its request for review within 90 days of the date of publication of the notice of initiation of the requested review, or withdraws its request at a later date if the Department determines that it is reasonable to extend the time limit for withdrawing the request. Indorama was the only party to request this review and it withdrew its request within the 90-day period. Accordingly, this review is rescinded.

This notice is issued and published in accordance with section 751 of the Act (19 U.S.C. 1675) and 19 CFR 351.213(d)(4).

Dated: October 30, 2002.
Bernard T. Carreau,
Deputy Assistant Secretary for Import Administration.

[FR Doc. 02-28236 Filed 11-5-02; 8:45 am]

BILLING CODE 3510-DS-P